DEPARTMENT OF THE INTERIOR

National Park Service

Notice of Inventory Completion: Florida Museum of Natural History, University of Florida, Gainesville, FL and Southwest Florida Water Management District, Brooksville, FL

AGENCY: National Park Service, Interior.

ACTION: Notice.

Notice is here given in accordance with the Native American Graves Protection and Repatriation Act (NAGPRA), 25 U.S.C. 3003, of the completion of an inventory of human remains in the control of the Florida Museum of Natural History, University of Florida, Gainesville, FL, and in the physical custody of the Southwest Florida Water Management District, Brooksville, FL. The human remains were removed from Tatham Mound, Citrus County, FL.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by the Florida Museum of Natural History professional staff in consultation with representatives of the Miccosukee Tribe of Indians of Florida, Seminole Nation of Oklahoma, and Seminole Tribe of Florida (Dania, Big Cypress, Brighton, Hollywood & Tampa Reservations).

In 1986-1987, human remains representing a minimum of 366 individuals were removed from Tatham Mound (8CI203) in Citrus County, FL, as part of a Florida Museum of Natural History research project. No known individuals are identified. No associated funerary objects are included in this notice.

Tatham Mound (8CI203) is a Safety Harbor culture mound. Tatham Mound consists of an earlier, pre-Columbian lower mound that contained human remains that are radiocarbon-dated to circa A.D. 1050. An upper mound contained the human remains of some of the individuals, most of whom were bundle burials in an extremely poor state of preservation. At the time of the Hernando de Soto expedition into the region in 1539, people associated with variants of the Safety Harbor culture lived from north Sarasota County to the Cove of the Withlachoochee, extending inland in Citrus County as far as Tatham Mound itself. Narratives associated with the de Soto expedition record the names of two Native American towns called Vicela and Tocaste in the vicinity of the Cove (but not in the locality of Tatham Mound). The Native American town of Vicela is thought to have been near the modern town of Istachatta in northeast Hernando County, approximately 15 miles southwest of Tatham Mound. No archeological site corresponding to Vicela has been found. North of Vicela, the de Soto expedition accounts mention the Native American town of Tocaste, describing it as being on a large lake. After 1539, Vicela and Tocaste disappear from the historical records. The linguistic affiliation of the Tatham Mound people and their Safety Harbor relatives are unknown. No information on their language, other than a few proper names noted in colonial Spanish documents, exists. Archeological and historical research in Citrus County, which is in the Florida Central Gulf Coast region (including Greater Tampa Bay) has shown that the Safety Harbor culture dates to the period circa A.D. 1000-1650. There is no known relationship between the Safety Harbor people and any modern Native American group. Consequently, the human remains are culturally unidentifiable.

At the time of excavation, the Tatham Mound site (formerly known as the McGregor-Smith tract) was owned by the South Florida Council of the Boy Scouts of America. Acting on the advice of the Council's Native American Advisory Committee, the Council mandated that the human remains be reinterred in the mound at the conclusion of reasonable scientific analysis, and that such reinterment would be in accordance with State of Florida regulations. The analysis of the human remains was carried out at first at East Carolina University and then at the University of North Carolina where analysis was completed. Subsequently, the human remains were transferred to the Southwest Florida Water Management District for storage.

In late 2004, the South Florida Council of the Boy Scouts of America sold the land on which Tatham Mound is located to the Southwest Florida Water Management District, a State of Florida agency. The site is now joined with the Flying Eagle tract. Ownership of the land by Southwest Florida Water Management District affords legal protection for Tatham Mound and places the stewardship of the site under the Florida Division of Historical Resources.

Officials of the Florida Museum of Natural History have determined that, pursuant to 25 U.S.C. 3001 (9-10), the human remains described above represent the physical remains of 366 individuals of Native American ancestry. Officials of the Florida Museum of Natural History also have determined that, pursuant to 25 U.S.C. 3001 (2), a relationship of shared group relationship cannot reasonably be traced between the Native American human remains and any present-day Indian tribe.

The Native American Graves Protection and Repatriation Review Committee (Review Committee) is responsible for recommending specific actions for disposition of culturally unidentifiable human remains. In February 2007, the Florida Museum of Natural History requested that the Review Committee recommend reburial of the human remains of 366 culturally unidentifiable individuals at the Tatham Mound site. The Review Committee considered the request at its April 2007 meeting and recommended the reburial of the culturally unidentifiable human remains. In May 2007, a letter from the Designated Federal Official, writing on behalf of the Secretary of the Interior, recommended reburial of the physical remains of the 366 culturally unidentifiable individuals contingent on the consent of the Miccosukee Tribe of Indians of Florida, Seminole Nation of Oklahoma, and Seminole Tribe of Florida; publication of a Notice of Inventory Completion in the Federal Register; and in accordance with applicable laws. This notice fulfills the requirement of publication. The Florida Museum of Natural History also has received consent from the Miccosukee Tribe of Indians of Florida, Seminole Nation of Oklahoma, and Seminole Tribe of Florida. Artifacts removed from the mound are not being reburied.

Representatives of any other Indian tribe that believes itself to be culturally affiliated with the human remains should contact Jerald T. Milanich, Florida Museum of Natural History, Campus PO Box 117800, Gainesville, FL 32611-7800, telephone (352) 378-0990, before February 22, 2008. Reburial of the human remains, with the consent of the Miccosukee Tribe of Indians of Florida, Seminole Nation of Oklahoma, and Seminole Tribe of Florida may proceed after that date if no additional claimants come forward.

Florida Museum of Natural History is responsible for notifying the Miccosukee Tribe of Indians of Florida, Seminole Nation of Oklahoma, and Seminole Tribe of Florida that this notice has been published.

Dated: November 26, 2007
Sherry Hutt,
Manager, National NAGPRA Program.

[FR Doc. E8-1078 Filed 1-22-08; 8:45 am]

BILLING CODE 4312-50-S